DEPARTMENT OF COMMERCE

National Oceanic and Atmospheric Administration

RIN: 0648-XQ47

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Scientific and Statistical Committee to consider actions affecting New England fisheries in the exclusive economic zone (EEZ). Recommendations from this group will be brought to the full Council for formal consideration and action, if appropriate.

DATES: This meeting will be held on Monday, August 10, 2009 at 1 p.m. and Tuesday, August 11, 2009 at 8:30 a.m.

ADDRESSES: The meeting will be held at the Crowne Plaza Hotel, 801 Greenwich Avenue, Warwick, RI 02886; telephone: (401) 732-6000; fax: (401) 739-5715.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Monday, August 10, 2009

The Scientific and Statistical Committee (SSC) will review the Groundfish Plan Development Team calculations of Acceptable Biological Catch (ABCs) for groundfish stocks for the years 2010-12 using the guidance previously provided by the SSC; finalize the ABC recommendations; discuss upcoming meetings including the Ecosystem Based Fisheries Management Workshop, the September 2009 Council meeting, the National SSC Workshop, SAW/SARC terms of reference and committee timelines.

Tuesday, August 11, 2009

The Committee will review the 2009 Herring TRAC Assessment results for the Atlantic herring complex and provide preliminary guidance to the Herring PDT regarding approaches to account for scientific uncertainty, specifying ABC and developing an ABC control rule; review quantitative analyses of uncertainty associated with the Overfishing Level and finalize a scallop ABC recommendation for fishing year 2010; review the 2008 Data Poor Working Group assessment results for red crab and provide preliminary guidance to the Red Crab Plan Development Team regarding approaches for accounting and scientific uncertainty, specifying ABC and developing an ABC control rule.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: July 21, 2009.
Tracey L. Thompson,
Acting Director, Office of Sustainable Fisheries, National Marine Fisheries Service.

[FR Doc. E9-17657 Filed 7-23-09; 8:45 am]

BILLING CODE 3510-22-S